DEPARTMENT OF THE INTERIOR

National Park Service

[NPS-WASO-NAGPRA-17144; PPWOCRADN0-PCU00RP14.R50000]

Notice of Inventory Completion: Bowers Museum, Santa Ana, CA

AGENCY: National Park Service, Interior.

ACTION: Notice.

SUMMARY: The Bowers Museum has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Bowers Museum. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Bowers Museum at the address in this notice by January 21, 2015.

ADDRESSES: Julie Perlin Lee, Vice President of Collections and Exhibition Development, Bowers Museum, 2002 N Main St., Santa Ana, CA 92706, telephone (714) 567-3656, email jplee@bowers.org.

SUPPLEMENTARY INFORMATION: Notice is here given in accordance with the Native American Graves Protection and Repatriation Act (NAGPRA), 25 U.S.C. 3003, of the completion of an inventory of human remains and associated funerary objects under the control of the Bowers Museum, Santa Ana, CA. The human remains and associated funerary objects were removed from the Kilowatt Mound near Wasco, in Kern County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Bowers Museum professional staff in consultation with representatives of the Santa Rosa Indian Community of the Santa Rosa Rancheria, California. The Santa Rosa Indian Community of the Santa Rosa Rancheria, California, has provided written documentation including a map, a journal article, a Smithsonian bulletin, and images supporting their claim over the remains and burial objects.

History and Description of the Remains

Between 1927 and 1935, human remains representing, at minimum, one (1) individual were removed from the Kilowatt Mound near Wasco, Kern County, CA. The human remains were removed by an amateur archeologist and eventually donated to the Bowers Museum. The human remains are 17 bone fragments. No known individuals were identified. The 32 associated funerary objects are 2 sets of shell beads, 1 set of stone beads, 16 shell ornaments, 1 stone implement, 4 potsherds, 5 burnt basketry textiles, 2 burial pole fragments, and 1 bird bone with paint and textile fragments.

Based on the location in which they were found, the Bowers Museum has determined that the human remains are `possibly Yokut.' Along with the location, the funerary objects in the museum's possession (i.e. burnt cloth, shells, etc.) that were buried with the individual appear to be in accordance with the practices of the Yokut at the time per the documentation provided by the Santa Rosa Indian Community of the Santa Rosa Rancheria, California. While a level of certainty cannot be determined because of the age of the remains, our records indicate they are “possibly Yokut” because of the origin of the burials.

Determinations Made by the Bowers Museum

Officials of the Bowers Museum have determined that:

• Pursuant to 25 U.S.C. 3001(9), the human remains described in this notice represent the physical remains of at least one (1) individual of Native American ancestry.

• Pursuant to 25 U.S.C. 3001(3)(A), the thirty-two (32) objects described in this notice are reasonably believed to have been placed with or near individual human remains at the time of death or later as part of the death rite or ceremony.

• Pursuant to 25 U.S.C. 3001(2), there is a relationship of shared group identity that can be reasonably traced between the Native American human remains and associated funerary objects and the Santa Rosa Indian Community of the Santa Rosa Rancheria, California, based on the information provided by the tribe.

Additional Requestors and Disposition

Lineal descendants or representatives of any Indian tribe or Native Hawaiian organization not identified in this notice that wish to request transfer of control of these human remains and associated funerary objects should submit a written request with information in support of the request to Julie Perlin Lee, Vice President of Collections and Exhibition Development, Bowers Museum, 2002 North Main Street, Santa Ana, California 92706, telephone (714) 567-3656, email jplee@bowers.org, by January 21, 2015. After that date, if no additional requestors have come forward, transfer of control of the human remains and associated funerary objects the Santa Rosa Indian Community of the Santa Rosa Rancheria, California, may proceed.

The Bowers Museum is responsible for notifying the Santa Rosa Indian Community of the Santa Rosa Rancheria, California, that this notice has been published.

Dated: November 6, 2014.
Melanie O'Brien,
Acting Manager, National NAGPRA Program.

[FR Doc. 2014-29911 Filed 12-19-14; 8:45 am]

BILLING CODE 4312-50-P